DEPARTMENT OF AGRICULTURE

Forest Service

Saguache—Upper Rio Grande Resource Advisory Committee

AGENCY: Forest Service, USDA.

ACTION: Notice of meeting.

SUMMARY: The Saguache—Upper Rio Grande Resource Advisory Committee (RAC) will hold a virtual meeting. The committee is authorized under the Secure Rural Schools and Community Self-Determination Act (the Act) and operates in compliance with the Federal Advisory Committee Act. The purpose of the committee is to improve collaborative relationships and to provide advice and recommendations to the Forest Service concerning projects and funding consistent with the Act. RAC information can be found at the following website: https://www.fs.usda.gov/main/riogrande/workingtogether/advisorycommittees.

DATES: The meeting will be held on Tuesday, February 23, 2021 at 8:30 a.m. Mountain Standard Time.

All RAC meetings are subject to cancellation. For status of meeting prior to attendance, please contact the person listed under FOR FURTHER INFORMATION CONTACT.

ADDRESSES: The meeting will be held with virtual attendance only. For virtual meeting information, please see the website listed under SUMMARY.

Written comments may be submitted as described under SUPPLEMENTARY INFORMATION. All comments, including names and addresses when provided, are placed in the record and are available for public inspection and copying. The public may inspect comments received at Rio Grande National Forest Headquarters, 1803 W Hwy. 160, Monte Vista, CO. Please call ahead to facilitate entry into the building.

FOR FURTHER INFORMATION CONTACT: Gregg Goodland, RAC Coordinator by phone at 719-588-7045 or via email at gregg.goodland@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review RAC funding, roles, responsibilities, and operating guidelines;

2. Allow public input on project proposals;

3. Allow time for project proposal presentations;

4. Discuss, recommend, and approve new Title II projects;

5. Discuss possible future meetings and next steps.

The meeting is open to the public. The agenda will include time for people to make oral statements of three minutes or less. Individuals wishing to make an oral statement should request in writing by Friday, February 19, 2021 to be scheduled on the agenda. Anyone who would like to bring related matters to the attention of the committee may file written statements with the committee staff before or after the meeting. Written comments and requests for time to make oral comments must be sent to Gregg Goodland, RAC Coordinator, 1803 W Highway 160, Monte Vista, CO 81144; by email to gregg.goodland@usda.gov, or via facsimile to 719-852-6250.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: January 15, 2021.
Cikena Reid,
Committee Management Officer.

[FR Doc. 2021-02013 Filed 1-29-21; 8:45 am]

BILLING CODE 3411-15-P